DEPARTMENT OF HOUSING AND URBAN DEVELOPMENT

[Docket No. FR-5415-C-34]

HUD's Fiscal Year (FY) 2010 NOFA for the Self-Help Homeownership Opportunity Program (SHOP) Technical Correction and Extension of Deadline Date

AGENCY: Office of the Chief of the Human Capital Officer, HUD.

ACTION: Notice of technical correction.

SUMMARY: HUD announces the availability on http://www.Grants.gov and its website at http://www.hud.gov/offices/adm/grants/nofa10/grpshop.cfm a technical correction to the FY 2010 NOFA for the Self-Help homeownership Opportunity Program (SHOP).

This notice corrects the Threshold Requirement in the NOFA to make clear that a SHOP applicant and its affiliates must qualify as eligible public or private nonprofit organizations under federal or state law. This Notice also corrects sections in the NOFA that relate to this threshold requirement.

This notice also makes applicants aware of a correction to the eLogic Model form HUD 96010 SHOP V12.3 012811. The coding in the form originally posted did not allow the macros to function properly. The coding has been corrected and the corrected HUD 96010 SHOP V12.3 030311 form is contained in the Instructions Download. Applicants that have already submitted an application using an earlier version of the eLogic Model, should pull a new Logic Model from the instructions download, complete a new eLogic Model, attach the new Logic Model to their application, and resubmit the application. The Technical Correction also extends the deadline date for the Self-Help homeownership Opportunity Program (SHOP) NOFA until April 18, 2011.

The Catalogue of Federal Domestic Assistance (CFDA) number for this program is 14.247.

DATES: The application submission deadline for the FY 2010 SHOP NOFA is being extended until April 18, 2011.

FOR FURTHER INFORMATION CONTACT: For additional information concerning the Self-Help Homeownership Opportunity Program, contact Ginger Macomber, SHOP Program Manager, Office of Affordable Housing Programs, Office of Community Planning and Development, Department of Housing and Urban Development, 451 Seventh Street, SW., Room 7162, Washington, DC 20410-7000; telephone 202-402-4605 (this is not a toll-free number). Persons with speech or hearing impairments may access this telephone number via TTY by calling the toll-free Federal Information Relay Service during working hours at 1-800-877-8339.

SUPPLEMENTARY INFORMATION: On February 1, 2011, HUD posted its FY 2010 Notice of Funding Availability (NOFA) for the Self-Help Homeownership Opportunity Program. The FY 2010 SHOP NOFA announced the availability of approximately $26.7 million in FY 2010 funding to be awarded to national and regional nonprofit organizations and consortia which facilitate and encourage innovative homeownership opportunities for low-income individuals and families.

Dated: March 15, 2011.
Barbara S. Dorf,
Director, Office of Departmental Grants Management and Oversight, Office of the Chief Human Capital Officer.

[FR Doc. 2011-6606 Filed 3-21-11; 8:45 am]

BILLING CODE 4210-67-P